NATIONAL SCIENCE FOUNDATION

Notice of Permit Applications Received Under the Antarctic Conservation Act of 1978

AGENCY: National Science Foundation.

ACTION: Notice of permit applications received.

SUMMARY: The National Science Foundation (NSF) is required to publish notice of permit applications received to conduct activities consistent with the Antarctic Conservation Act of 1978. NSF has published regulations under the Antarctic Conservation Act of 1978 in the Code of Federal Regulations. This is the required notice of permit applications received.

DATES: Interested parties are invited to submit written data, comments, or views with respect to this permit application by October 14, 2025. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 16 U.S.C. 2401 et seq.), as amended by the Antarctic Science, Tourism and Conservation Act of 1996 (Pub. L. 104-227), has developed regulations (45 CFR parts 670 to 674) for the establishment of a permit system for various activities in Antarctica related to the designation of certain animals and certain geographic areas as requiring special protection, among other purposes.

Application Details

1. Permit Application: 2026-004

Applicant: Sarah Conner, BBC Studios Americas Inc., 1120 Avenue of the Americas, 5th Floor, New York, NY 10036

Activity for Which Permit Is Requested: Harmful Interference (45 CFR 670). The applicant requests a permit in association with documentary film making activities. Activities would focus on the filming of Weddell seals (Leptonychotes weddellii) through filming from underwater, using Remotely Piloted Aircraft Systems (RPAS), and land-based platforms. The applicant requests up to 30 disturbances per day, not to exceed 280 disturbances for the project. During this project, the applicant requests incidental interaction with no more than 1 Crabeater seal (Lobodon carcinophagus) per week, and 1 Leopard seal (Hydrurga leptonyx) per week. Filming would occur at maintained U.S. Antarctic Program dive sites in McMurdo Sound and Erebus Bay. Animal approaches would be gradual, and no animal will be approached closer than 5m. Newborn neonate pups will not be approached. The applicant would operate, battery-operated remotely piloted aircraft systems (RPAS) consisting, in part, of a quadcopter equipped with cameras. The RPAS would only be operated by a pilot with extensive experience. Takeoff and landing would occur at least 100m away from animals, and flown above animals at a minimum altitude of 23m, dropping to 10m only if no signs of disturbance have been detected. The applicant has received a NOAA National Marine Fisheries Service permit for these activities.

Location: McMurdo Sound and Erebus Bay.

Dates of Permitted Activities: October 8, 2025-November 15, 2025

Permit Application: 2026-005

2. Applicant: Jason Flesher, Scenic Luxury Tours and Cruises, 6422 W Briles Rd., Phoenix, AZ 85083

Activity for Which Permit Is Requested: Enter Antarctic Specially Protected Area (45 CFR 670). The applicant seeks a permit authorizing entry into Antarctic Specially Protected Areas (ASPA) in association with visits to historic huts in the Ross Sea and East Antarctica regions. Up to 580 persons would enter each ASPA accompanied by guides trained in the history and preservation of the historic huts. All visits would be in accordance with the management plans for each ASPA.

Locations: ASPA 155—Cape Evans, Ross Island; ASPA 157—Backdoor Bay, Cape Royds, Ross Island; ASPA 158—Hut Point, Ross Island; ASPA 162—Mawson's Huts, Cape Denison, Commonwealth Bay, George V Land, East Antarctica.

Dates of Permitted Activities: December 14, 2025-February 22, 2026.

Jean C Allen,
Office Director, Office of Polar Programs.

[FR Doc. 2025-17440 Filed 9-10-25; 8:45 am]

BILLING CODE 7555-01-P